DEPARTMENT OF THE INTERIOR

Bureau of Indian Affairs

Notice of Intent To Prepare an Environmental Impact Statement for the Proposed Pokagon Band Tribal Village Fee-to-Trust Acquisition and Casino Project in the City of South Bend, St. Joseph County, IN

AGENCY: Bureau of Indian Affairs, Interior.

ACTION: Notice.

SUMMARY: This notice advises the public that the Bureau of Indian Affairs (BIA), in cooperation with the Pokagon Band of Potawatomi Indians (Tribe), intends to gather the information necessary for preparing an Environmental Impact Statement (EIS) for the conveyance into trust of 164.22 acres of land currently held by the Tribe in the City of South Bend, Indiana. The purpose of the proposed action is to help create a tribal land base and to meet the Tribe's economic development needs in Indiana. The Tribe is federally recognized, but does not currently have a federally protected reservation or have land that is held in trust for the Tribe by the United States in the State of Indiana.

This notice also announces a public scoping meeting to identify potential issues, alternatives, and content for inclusion in the EIS.

DATES: The public scoping meeting will be held on September 27, 2012, and will begin at 6 p.m. and last until the last public comment is received. Written comments on the scope of the EIS or implementation of the proposal must arrive by October 9, 2012.

ADDRESSES: The public scoping meeting will be held at the South Bend Century Center, 120 South Saint Joseph Street, South Bend, Indiana 46601. The meeting will be co-hosted by the BIA and the Tribe. You may mail, hand deliver, or telefax written comments to Diane Rosen, Regional Director, Midwest Regional Office, Bureau of Indian Affairs, 5600 West American Boulevard, Suite 500, Bloomington, MN 55437; Telefax (612) 713-4401. Please include your name, return address and the caption specifying “Scoping Comments for Proposed Pokagon Band Tribal Village” on the first page of your written comments.

FOR FURTHER INFORMATION CONTACT: Scott Doig, Regional Environmental Protection Specialist, Midwest Regional Office, Bureau of Indian Affairs, 5600 West American Boulevard, Suite 500, Bloomington, MN 55437; telephone: (612) 725-4514; email: scott.doig@bia.gov.

SUPPLEMENTARY INFORMATION: The Tribe proposes to take into trust 164.22 acres of land located within the municipal limits of the City of South Bend, Indiana pursuant to Section 6 of the Pokagon Restoration Act (25 U.S.C. 1300j-5). The proposed trust acquisition of the property is for the development of a Tribal Village, which will include 44 housing units, a multi-purpose facility, health service and other tribal government facilities. Proposed development for the property also includes a Class III gaming facility with a hotel, restaurants, meeting space, and a parking garage.

The property is located approximately 5.25 miles from Interstate 80/90 and approximately 2.5 miles southwest of downtown South Bend and consists of 17 contiguous parcels of land that are bounded on the northwest by Indiana State Road 23, on the southwest by U.S. Highway 31/20, and on the east by Locust Street. The site of the gaming facility is proposed to be accessible from Indiana State Road 23 and the Tribal Village is proposed to be accessible from Locust Road.

The purpose of the proposed action is to improve access to essential tribal government services, provide housing, economic development, and employment opportunities for the Pokagon Band tribal community residing in northern Indiana. Areas of environmental concern so far identified that the EIS will address include soils and geology, air quality, water supply, wastewater and storm water, biological resources, traffic and transportation, cultural and historic resources, socioeconomics, public health and safety, noise, and visual resources/aesthetics. Alternatives identified for analysis include the proposed action, a no-action alternative, a non-gaming alternative, and an alternate gaming site alternative. The range of issues addressed in the EIS may also be revised based on comments received at the public scoping meeting and in response to this notice. The Tribe consists of approximately 4,400 members and is governed by a Tribal Council under a constitution. The United States presently holds approximately 2,883 acres of land in the lower peninsula of the State of Michigan in trust for the Tribe.

Public Comment Availability

Comments, including names and addresses of respondents, will be available for public review at all of the mailing addresses shown in the ADDRESSES section (except those for the public meetings) during business hours, 8 a.m. to 4:30 p.m., Monday through Friday, except holidays. Before including your address, phone number, email address, or other personal identifying information in your comment, you should be aware that your entire comment—including your personal identifying information—may be made publicly available at any time. While you can request your comment to exclude personal identifying information from public review, BIA cannot guarantee our ability to do so under the guidelines of the Freedom of Information Act.

Authority

This notice is published in accordance with section 1503.1 of the Council of Environmental Quality regulations (40 CFR parts 1500 through 1508) and Sec. 46.305 of the Department of Interior Regulations (43 CFR part 46) implementing the procedural requirements of the National Environmental Policy Act of 1969, as amended (42 U.S.C. 4321 et seq.), the Department of the Interior Manual (516 DM 1-6), and is in the exercise of authority delegated to the Assistant Secretary—Indian Affairs by 209 DM 8.

Dated: August 9, 2012.
Donald E. Laverdure,
Acting Assistant Secretary—Indian Affairs.

[FR Doc. 2012-20833 Filed 8-23-12; 8:45 am]

BILLING CODE 4310-W7-P